CONSUMER PRODUCT SAFETY COMMISSION

Sunshine Act Meetings

FEDERAL REGISTER CITATION OF PREVIOUS ANNOUNCEMENT: Vol. 77 No. 152, Tuesday, August 7, 2012, page 47047.

ANNOUNCED TIME AND DATE OF OPEN MEETING: 3:30 p.m.-5:30 p.m., Thursday, August 9, 2012.

CHANGES TO OPEN MEETING: REVISED TIME: Time changed to 3 p.m.-5 p.m., Thursday, August 9, 2012.

For a recorded message containing the latest agenda information, call (301) 504-7948.

CONTACT PERSON FOR ADDITIONAL INFORMATION: Todd A. Stevenson, Office of the Secretary, 4330 East West Highway, Bethesda, MD 20814, (301) 504-7923.

Dated: August 8, 2012.
Todd A. Stevenson,
Secretary.

[FR Doc. 2012-19786 Filed 8-8-12; 4:15 pm]

BILLING CODE 6355-01-P